DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of July, 2002.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-41,195; Wellman Thermal Systems, Inc., Shelbyville, IN

TA-W-41,429; Concord Wire, Worcester, MA

TA-W-41.480; Newell Manufacturing Corp., Lowell, MI

TA-W-41,286; Semitool, Inc., Kalispell, MT and Operating at the Following Locations A; San Jose, CA, B; Beaverton, OR, D; Dallas, TX, D; Austin, TX, E; Tempe, AZ, F; Cary, NC, G; Nashua, NH, H; Libby, MT

In the following cases, the investigation revealed that the criteria for eligibility have not been met for the reasons specified.

The workers firm does not produce an article as required for certification under section 222 of the Trade Act of 1974.

TA-W-41,672; VMV Paducahbilt, VMV Enterprises, Paducah, KY

TA-W-40,410; Thyseen Mining Construction of Canada, A Contractor for Stillwater Mining Co., Nye, MT

The investigation revealed that criteria (2) has not been met. Sales or production did not decline during the relevant period as required for certification.

TA-W-41,307; Canton Drop Forge, Inc., A Wholly Owned Subsidiary of Engineering Materials, Inc., Canton, OH

Increased imports did not contribute importantly to worker separations at the firm.

TA-W-41,422; McCain Foods USA, Inc., Anchor Appetizer Group, Appleton, WI

TA-W-41,161; Wheeling Pittsburgh Steel Corp., Wheeling, WV, A; Beech Botton, WV, B; Allenport, PA, C; Steubenville, OH, D; Martins Ferry, OH, E; Yorkville, OH

TA-W-41,165; Flextronics Enclosures, Smithfield, NC

TA-W-41,485; Fold-Pak, Gulf States Paper Cop., Newark NY

TA-W-41,363; Regal-Beloit Corp., Inc., Mitchell, IN

Affirmative Determinations for Worker Adjustment Assistance

The following certifications have been issued; the date following the company name and location of each determination references the impact date for all workers of such determination.

TA-W-41,465; Energy Converters, Inc., Dallas, PA: February 7, 2001.

TA-W-41,455; Werbak, Inc., Webster, MA: March 14, 2001.

TA-W-41,376; Techalloy Co., Inc., Florence, MA: April 4, 2001.

TA-W-41,373; Springs Window Fashions, LP, Montgomery, PA: April 12, 2001.

TA-W-41,365 Germantown (USA) Co. Including Workers of Volt Services Group and Westaff, West Chester, PA: March 21, 2001.

TA-W-41,360; Warnaco, Calvin Klein Jeans Div., Nesquehoning, PA: March 28, 2001.

TA-W-41,249; Getinge/Castle, Inc., Rochester, NY: February 15, 2001.

TA-W-41,231; Corning, Inc., Telecommunications Products Div., Wilmington, NC: February 5, 2001.

TA-W-41,014; Exabyte Corp., Boulder, CO: February 22, 2001.

TA-W-40,757 A, B; Sony Electronics, Inc., Sony Technology Center, Aperture Grille Div. Including Leased Workers at Tops Temporary and Adecco, Mount Pleasant, PA and Projection Television Picture Tube Div., Mount Pleasant, PA and Pittsburgh Television Group Div., Including Leased workers at Tops Temporary, Adecco and Burn Staffing Services, Mount Pleasant, PA: October 10, 2000.

TA-W-39,276; Cutting Edge Texstyles, Boston, MA: May 7, 2000.

TA-W-38,915; Verson Press, A Div. Of Allied Products Corp., Chicago, IL: March 12, 2000.

TA-W-40,587; UCAR Carbon Co., Clarksburg Works, Clarksburg, WV: November 14, 2000.

TA-W-40,984; Timesavers, Inc., Crystal, MN: February 5, 2001.

TA-W-41,037; Devant Ltd, Monroe, NC: February 19, 2001.

TA-W-41,091; Halliburton Energy Services, Tucson, AZ, A; Bakersfield, CA, B; Duncan, OK, C; Carrollton, TX, D; Winnemucca, NE: February 21, 2001.

TA-W-41,243; Texaco Exploration and Production, Inc. (TEPI), Operating in The Following States: AL, A; CA, B; CO, C; LA, D; NM, E; OK, F; TX, G; WY: June 8, 2001.

TA-W-41,336; C and W Fabricators, Gardner, MA: April 4, 2001.

TA-W-41,414; Honeywell International, Inc., Consumer Products Group, Nevada, MO: April 18, 2001.

TA-W-41,436; Tyco Electronics, Formerly CII Technologies, Corcom Div., El Paso, TX: March 21, 2001.

TA-W-41,457; Sandisk Corp., Sunnyvalle, CA: March 28, 2001.

TA-W-41,463; Knight Textile Corp., Knight Industries, Saluda, SC: April 19, 2001.

TA-W-41,464; Analog Devices, Inc., Final Test Operations, Wilmington, MA: April 12, 2001.

TA-W-41,474; Aerus, LLC, Formerly Electrolux, LLC, Bristol, VA: April 2, 2001.

TA-W-41,482; D. Hersh Neckwear, Inc., Worcester, MA: April 12, 2001.

TA-W-41,486; Mirro Co., Div. Of Newell-Rubbermaid, Administrative and Technical Support Personnel, Manitowoc, WI: January 14, 2001.

TA-W-41,614; Great Northern Paper, Inc., Millinocket, ME: May 17, 2001.

Also, pursuant to Title V of the North American Free Trade Agreement Implementation Act (Pub. L. 103-182) concerning transitional adjustment assistance hereinafter called (NAFTA-TAA) and in accordance with section 250(a), Subchaper D, Chapter 2, Title II, of the Trade Act as amended, the Department of Labor presents summaries of determinations regarding eligibility to apply for NAFTA-TAA issued during the months of July, 2002.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06120; Aerus, LLC, Formerly Electrolux, LLC, Bristol, VA

NAFTA-TAA-06165; Regal Originals, Inc., New York, NY

NAFTA-TAA-05912; Timesavers, Inc., Crystal, MN

NAFTA-TAA-05921; Devant Ltd, Monroe, NC

NAFTA-TAA-06110; Newell Manufacturing Corp., Lowell, MI

The investigation revealed that the criteria for eligibility have not been met for the reasons specified.

The investigation revealed that workers of the subject firm did not produce an article within the meaning of section 250(a) of the Trade Act, as amended.

NAFTA-TAA-06243; VMV Paducahbilt, VMV Enterprises, Paducah, KY

NAFTA-TAA-06183 & A; Union of Needletrades, Industrial & Textile Employees, Columbus, GA and Phenix City, AL

NAFTA-TAA-06337; Trico Products Corp., Buffalo, NY

NAFTA-TAA-06259; Stream International, Memphis, TN

NAFTA-TAA-06250; Florsheim Distribution Center, Florsheim Group, Inc., Jefferson City, MO

NAFTA-TAA-06218; Insystems Technologies, Ltd, Roanoke, VA

Affirmative Determinations NAFTA-TAA

NAFTA-TAA-04909; Cutting Edge Texstyles, Boston, MA: May 7, 2000.

NAFTA-TAA-06055; C and W Fabricators, Inc., Gardner, MA: April 4, 2001.

NAFTA-TAA-06085; London Harness and Cable, Trenton, NJ: March 6, 2001.

NAFTA-TAA-06127; Knight Textile Corp., Knight Industries, Saluda, SC: April 19, 2001.

NAFTA-TAA-06141; Smiths-Group PLC, Portex, Inc., Fort Myers, FL: April 22, 2001.

NAFTA-TAA-06170; Tyco Electronics, Formerly CII Technologies, Corcom Div., El Paso, TX: March 25, 2001.

NAFTA-TAA-06307; Vishay Dale Electronics, Columbus, NE: June 25, 2001.

NAFTA-TAA-05958; Wellman Thermal Systems, Inc., Shelbyville, IN: March 13, 2001.

NAFTA-TAA-06078; Corning, Inc., Telecommunications Products Div., Wilmington, NC: March 16, 2001.

I hereby certify that the aforementioned determinations were issued during the months of July, 2002. Copies of these determinations are available for inspection in Room C-5311, U.S. Department of Labor, 200 Constitution Avenue, NW., Washington, DC 20210 during normal business hours or will be mailed to persons who write to the above address.

Dated: July 22, 2002.
Edward A. Tomchick,
Director, Division of Trade Adjustment Assistance.

[FR Doc. 02-19087 Filed 7-26-02; 8:45 am]

BILLING CODE 4510-30-P